SMALL BUSINESS ADMINISTRATION

[Disaster Declaration #15698 and #15699; South Carolina Disaster Number SC-00054]

Presidential Declaration Amendment of a Major Disaster for the State of South Carolina

AGENCY: U.S. Small Business Administration.

ACTION: Amendment 3.

SUMMARY: This is an amendment of the Presidential declaration of a major disaster for the State of South Carolina (FEMA-4394-DR), dated 09/21/2018.

Incident: Hurricane Florence.

Incident Period: 09/08/2018 and continuing.

DATES: Issued on 10/02/2018.

Physical Loan Application Deadline Date: 11/20/2018.

Economic Injury (EIDL) Loan Application Deadline Date: 06/21/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of South Carolina, dated 09/21/2018, is hereby amended to include the following areas as adversely affected by the disaster:

Primary Counties (Physical Damage and Economic Injury Loans): Darlington, Florence.

Contiguous Counties (Economic Injury Loans Only):

South Carolina: Clarendon, Lee, Sumter.

All other information in the original declaration remains unchanged.

(Catalog of Federal Domestic Assistance Number 59008)

James Rivera,
Associate Administrator for Disaster Assistance.

[FR Doc. 2018-22122 Filed 10-10-18; 8:45 am]

BILLING CODE 8025-01-P